DEPARTMENT OF ENERGY

Federal Energy Regulatory Commission

[Docket No. RP99-513-029]

Questar Pipeline Company; Notice of Tariff Filing

August 6, 2003.

Take notice that on August 1, 2003, Questar Pipeline Company's (Questar) submitted a tariff filing to reflect a new negotiated-rate contract with Williams Energy Marketing & Trading Company.

Questar's negotiated-rate contract provisions were authorized by Commission Orders issued October 27, 1999, and December 14, 1999, in Docket Nos. RP99-513, et al. The Commission approved Questar's request to implement a negotiated-rate option for Rate Schedules T-1, NNT, T-2, PKS, FSS and ISS shippers. Questar submitted its negotiated-rate filing in accordance with the Commission's Policy Statement in Docket Nos. RM95-6-000 and RM96-7-000 issued January 31, 1996.

Questar states that copies of this filing have been served upon all parties to this proceeding, Questar's customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 13, 2003.

Magalie R. Salas,
Secretary.

[FR Doc. 03-20635 Filed 8-12-03; 8:45 am]

BILLING CODE 6717-01-P